DEPARTMENT OF HOMELAND SECURITY

Coast Guard

33 CFR Part 117

[Docket No. USCG-2017-0967]

Drawbridge Operation Regulation; Atlantic Intracoastal Waterway, Alligator River, Columbia, NC

AGENCY: Coast Guard, DHS.

ACTION: Notice of deviation from drawbridge regulation; modification.

SUMMARY: The Coast Guard has modified a temporary deviation from the operating schedule that governs the US 64/Alligator River Bridge which carries US 64 over the Atlantic Intracoastal Waterway (AICW), Alligator River, mile 84.2, near Columbia, NC. The deviation is necessary to facilitate bridge maintenance. This deviation allows the bridge to remain in the closed-to-navigation position.

DATES: This deviation is effective without actual notice from December 26, 2017 through 6 p.m. on March 29, 2018. For the purposes of enforcement, actual notice will be used from 7 a.m. on November 6, 2017, until December 26, 2017.

ADDRESSES: The docket for this deviation, USCG-2017-0967, is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: On November 1, 2017, the Coast Guard published a temporary deviation entitled “Drawbridge Operation Regulation; Atlantic Intracoastal Waterway, Alligator River, Columbia, NC” in the Federal Register (82 FR 50577). That document resulted from North Carolina Department of Transportation's request for a temporary deviation, occurring from 7 a.m. on November 6, 2017, through 7 p.m. on November 17, 2017, from normal operation of the drawbridge to facilitate bridge maintenance. Subsequent to the approval of that request, North Carolina Department of Transportation requested a modification, extending the temporary deviation from 7:01 p.m. on November 17, 2017, through 6 p.m. on March 29, 2018, to allow more time to perform and complete additional bridge maintenance discovered during the previous temporary deviation. Therefore, through this document, the Coast Guard modifies the dates of the previously approved temporary deviation to allow the US 64/Alligator River Bridge that carries US 64 over the AICW, Alligator River, mile 84.2, at near Columbia, NC, to remain in the closed-to-navigation position from 7 a.m. to 7 p.m., on Wednesday, December 27, 2017, through Saturday, December 30, 2017; Monday, January 1, 2018, through Saturday, January 5, 2018; and Monday, January 8, 2018, through Tuesday, January 9, 2018. During these closure periods the bridge will open on signal, if at least 2 hours notice is given. The bridge will also remain in the closed-to-navigation position 24 hours a day, 7 days a week, from 6 a.m. on Wednesday, January 10, 2018, through 6 p.m. on Wednesday, January 17, 2018; and from 6 a.m. on Wednesday, March 14, 2018, through 6 p.m. on Wednesday, March 21, 2018. Alternative work dates for these closure periods will be from noon on Thursday, January 18, 2018, through 6 p.m. on Wednesday, January 24, 2018; and from noon on Thursday, March 22, 2018, through 6 p.m. on Thursday, March 29, 2018. If the alternative work dates from noon on Thursday, January 18, 2018, through 6 p.m. on Wednesday, January 24, 2018 are used, the bridge will also remain in the closed-to-navigation position from 7 a.m. to 6 p.m., Monday through Saturday, from January 22, 2018, through March 14, 2018; except for scheduled daily openings at noon, if at least 2 hours notice is given. If the alternative work dates from noon on Thursday, January 18, 2018, through 6 p.m. on Wednesday, January 24, 2018 are not used, the bridge will also remain in the closed-to-navigation position from 7 a.m. to 6 p.m., Monday through Saturday, from January 17, 2018, through March 14, 2018; except for scheduled daily openings at noon, if at least 2 hours notice is given. The Coast Guard will inform the users of the waterway through our Broadcast Notices to Mariners, if the alternative work dates will be used. The bridge has a vertical clearance of 14 feet above mean high water in the closed position and unlimited feet above mean high water in the open position. The bridge will open on signal at all other times. The current operating schedule is set out in 33 CFR 117.5.

The AICW, Alligator River is used by a variety of vessels including, small commercial vessels, tug and barge traffic, and recreational vessels. The Coast Guard has carefully coordinated the restrictions with waterway users in publishing this temporary deviation.

Vessels able to pass through the bridge in the closed-to-navigation position may do so at any time. During the closure periods, the bridge will not be able to open for emergencies and the Croatan Sound to the Pamlico Sound can be used as an alternative route for vessels unable to pass through the bridge in the closed position. During the closure periods with scheduled openings at noon, the bridge will be able to open up for emergencies, if at least one hour notice is given. The Coast Guard will also inform the users of the waterway through our Local Notice and Broadcast Notices to Mariners of the change in operating schedule for the bridge so vessel operators can arrange their transits to minimize any impact caused by the temporary deviation.

In accordance with 33 CFR 117.35(e), the drawbridge must return to its regular operating schedule immediately at the end of the effective period of this temporary deviation. This deviation from the operating regulations is authorized under 33 CFR 117.35.

Dated: December 18, 2017.
Hal R. Pitts,
Bridge Program Manager, Fifth Coast Guard District.

[FR Doc. 2017-27718 Filed 12-22-17; 8:45 am]

BILLING CODE 9110-04-P